DEPARTMENT OF ENERGY

Federal Energy Regulatory Commission

[Docket No. CP84-257-000]

Northern Natural Gas Company; Notice of Proposed Changes in FERC Gas Tariff

September 10, 2001.

Take notice that Northern Natural Gas Compnay (Northern) on August 31, 2001, tendered for filing to become part of Northern's FERC Gas Tariffs, the following tariff sheets proposed to be effective on Octorber 1, 2001:

Fifth Revised Volume No. 1

Ninth Revised Sheet No. 5

Original Volume No. 2

14 Revised Sheet No. 1A.3

First Revised Sheet No. 2189

The above sheets represent cancellation of Rate Schedule X-109 from Nothern's Original Volume No. 2 FERC Gas Tariff, and its associated deletion from the Table of Contents in Northern's Volume Nos. 1 and 2 tariffs.

Copies of the filing were served upon the company's customers and interested state Commissions.

Any person desiring to be heard or to protest said filing should file a motion to intervene or protest with the Federal Energy Regulatory Commision, 888 First Street, NE., Washington, DC 20426 in accordance with Rules 214 and 211 of the Commission's Rules of Practice and Procedure (18 CFR 385.214 and 385.211). All such motions or protests must be filed on or before October 1, 2001. Protests will be considered by the Commission in determining the appropriate action to be taken, but will not serve to make protestants parties to the proceeding. Any person wishing to become a party must file a motion to intervene. Copies of this filing are on file with the Commission and are available for public inspection. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-23139 Filed 9-14-01; 8:45 am]

BILLING CODE 6717-01-P